DEPARTMENT OF LABOR

Employment and Training Administration

[TA-W-65,648]

Aleris International; Lewisport, KY; Notice of Termination of Investigation

Pursuant to Section 221 of the Trade Act of 1974, as amended, an investigation was initiated on March 20, 2009 in response to a worker petition filed by the United Steelworkers Local 9443 on behalf of workers at Aleris Internatnional, Lewisport, Kentucky.

The petitioner has requested that the petition be withdrawn. Consequently, the investigation has been terminated.

Signed at Washington, DC, this 1st day of April 2009.
Richard Church,
Certifying Officer, Division of Trade Adjustment Assistance.

[FR Doc. E9-10390 Filed 5-5-09; 8:45 am]

BILLING CODE 4510-FN-P